DEPARTMENT OF TRANSPORTATION

Federal Railroad Administration

[Docket No. FRA 2011-0001-N-10]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than October 11, 2011.

ADDRESSES: Submit written comments on any or all of the following proposed activities by mail to either: Mr. Robert Brogan, Office of Safety, Planning and Evaluation Division, RRS-21, Federal Railroad Administration, 1200 New Jersey Ave., SE., Mail Stop 25, Washington, DC 20590, or Ms. Kimberly Toone, Office of Information Technology, RAD-20, Federal Railroad Administration, 1200 New Jersey Ave., SE., Mail Stop 35, Washington, DC 20590. Commenters requesting FRA to acknowledge receipt of their respective comments must include a self-addressed stamped postcard stating, “Comments on OMB control number 2130-0008.” Alternatively, comments may be transmitted via facsimile to (202) 493-6216 or (202) 493-6479, or via e-mail to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave., SE., Mail Stop 21, Washington, DC 20590 (telephone: (202) 493-6292) or Ms. Kimberly Toone, Office of Information Technology, RAD-20, Federal Railroad Administration, 1200 New Jersey Ave., SE., Mail Stop 35, Washington, DC 20590 (telephone: (202) 493-6132). (These telephone numbers are not toll-free.)

SUPPLEMENTARY INFORMATION: The Paperwork Reduction Act of 1995 (PRA), Public Law. 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved information collection request (ICR) that FRA will submit for clearance by OMB as required under the PRA:

Title: Inspection Brake System Safety Standards for Freight and Other Non-Passenger Trains and Equipment (Power Brakes and Drawbars).

OMB Control Number: 2130-0008.

Abstract: Section 7 of the Rail Safety Enforcement and Review Act of 1992, Public Law No. 102-365, amended Section 202 of the Federal Railroad Safety Act of 1970 (45 U.S.C. 421, 431 et seq.), empowered the Secretary of Transportation to conduct a review of the Department's rules with respect to railroad power brakes and, where applicable, prescribe standards regarding dynamic brake equipment. In keeping with the Secretary's mandate and the authority delegated from him to the FRA Administrator, FRA issued revisions to the regulations governing freight power brakes and equipment in October 2008 by adding a new Subpart addressing electronically controlled pneumatic (ECP) brake systems. The revisions are designed to provide for and encourage the safe implementation and use of ECT brake system technologies. These revisions contain specific requirements relating to design, interoperability, training, inspection, testing, handling defective equipment and periodic maintenance related to ECP brake systems. The final rule also identifies provisions of the existing regulations and statutes where FRA is proposing to provide flexibility to facilitate the voluntary adoption of this advanced brake system technology. The collection of information is used by FRA to monitor and enforce current regulatory requirements related to power brakes on freight cars as well as the recently added requirements related to ECP brake systems. The collection of information is also used by locomotive engineers and road crews to verify that the terminal air brake test has been performed in a satisfactory manner.

Form Number(s): None.

Affected Public: Businesses.

Respondent Universe: 559 railroads.

Frequency of Submission: On occasion.

Affected Public: Businesses.

Reporting Burden

CFR Section | Respondent universe | Total annual responses | Average time per response | Total annual burden hours
229.27: Annual Tests | 30,000 Locomotives | 30,000 tests | 15 minutes | 7,500
232.3: Applicability—Cars Not Used in Service | 559 Railroads | 8 cards | 10 minutes | 1
232.7: Waivers | 559 railroads | 20 petitions | 40 hours | 800
232.11: Penalties | 559 railroads | 1 false record | 10 minutes | .17
232.15: Movement of Defective Equipment—Notice of Defective Car/Locomotive and Restrictions | 1,620,000 cars/locos | 128,400 tags | 2.5 minutes | 5,350
| 1,620,000 cars/locos | 25,000 notices | 3 minutes | 1,250
232.17:
Special Approval Procedure | 559 railroads | 4 petitions | 100 hours | 400
Petitions—Pre-Revenue Svc Plans | 559 railroads | 2 petitions | 100 hours | 200
Copies of Petitions—Special Approval | 559 railroads | 4 petitions | 40 hours | 160
Statements of Interest | Public/Railroads | 14 statements | 8 hours | 112
Comments on Special Approval Procedure Petition | Public/Railroads | 13 comments | 4 hours | 52
232.103: General Requirements for All Train Brakes | 114,000 cars | 70,000 stickers | 10 minutes | 11,667
232.105: General Requirements For Locomotives | 30,000 locomotives | 30,000 forms | 5 minutes | 2,500
232.107:
Air Source Requirements—Plans | 10 new railroads | 1 plan | 40 hours | 40
Amendments to Plan | 50 Existing Plans | 10 amendment | 20 hours | 200
Record Keeping | 50 Existing Plans | 1,150 records | 20 hours | 23,000
232.109:
Dynamic Br. Requirements—Rcd | 559 railroads | 1,656,000 rcd | 4 minutes | 110,400
Repair of Inoperative Dynamic Brakes | 30,000 locomotives | 6,358 records | 4 minutes | 424
Locomotives w/Inoperative Dynamic Br. | 30,000 locomotives | 6,358 tags | 30 seconds | 53
Deactivated Dynamic Brakes: Markings | 8,000 locomotives | 10 markings | 5 minutes | 1
Rule Safe Train Handling Procedures | 5 new railroads | 5 oper. rules | 4 hours | 20
Amendments | 559 railroads | 15 amendment | 1 hour | 15
Over Speed Top Rules—5 MPH Increase | 559 railroads | 5 requests | 20.5 hours | 103
Locomotive Engineer Certification Programs—Dynamic Brakes Training | 5 new railroads | 5 amendments | 16 hours | 80
232.111:
Train Information Handling | 5 new railroads | 5 procedures | 40 hours | 200
Amendments | 100 railroads | 100 am. proc. | 20 hours | 2,000
Reports to Train Crews | 559 railroads | 2,112,000 rpts | 10 minutes | 352,000
232.203:
Training Requirements: Training Programs—Subsequent Years | 15 railroads | 5 programs | 100 hours | 500
Amendments to Written Program | 559 railroads | 559 am. prog. | 8 hours | 4,472
Training Records | 559 railroads | 67,000 records | 8 minutes | 8,933
Training Notifications | 559 railroads | 67,000 notices | 3 minutes | 3,350
Validation/Assessment Plans | 559 railroads | 1 plan +559 copies | 40 hrs./1 min. | 49
Amendments to Validation/Assessment Plans | 559 railroads | 50 amendment | 20 hours | 1,000
232.205: Class I Brake Test—Initial Terminal Insp. | 559 railroads | 1,646,000 notices | 45 seconds | 20,575
232.207:
Class I A Brake Tests: 1000 Mile Insp. | 559 railroads | 25 designations | 30 minutes | 13
Subsequent Years | 559 railroads | 1 designation | 1 hour | 1
Amendments | 559 railroads | 5 amendments | 1 hour | 5
232.209: Class II Brake Tests—Intermediate Insp. | 559 railroads | 1,600,000 comments | 3 seconds | 1,333
232.213:
Extended Haul Trains—Designations | 84,000 train movements | 100 designations | 15 minutes | 25
Records | 84,000 train movements | 25,200 records | 20 minutes | 8,400
232.303:
General Requirements—Track Brake Test | 1,600,000 freight cars | 5,600 tags | 5 minutes | 467
Location of Last Track Brake Test/Single Car Test | 1,600,000 freight cars | 320,000 stenciling | 5 minutes | 26,667
232.305: Single Car Tests | 1,600,000 freight cars | 320,000 tests/rcds | 45 minutes | 240,000
232.309: Equipment and Devices—Tests/Calibrations | 640 shops | 5,000 tests | 30 minutes | 2,500
232.403: Design Standards For One-way EOT Devices—Unique Code | 245 railroads | 12 requests | 5 minutes | 1
232.407: Operations Requiring 2-Way EOTs | 245 railroads | 50,000 commun | 30 seconds | 417
232.409:
Inspection and Testing of 2-Way EOTs | 245 railroads | 450,000 commun | 30 seconds | 3,750
Testing Telemetry Equipment | 245 railroads | 32,708 markings | 60 seconds | 545
232.503:
Process to Introduce New Brake System Technology—Special Approval | 559 railroads | 1 request/letter | 60 minutes | 1
Pre-Revenue Service Demonstration | 559 railroads | 1 request | 3 hours | 3
232.505:
Pre-Revenue Service Acceptance Testing Plan: Maintenance Procedure—1st Year | 559 railroads | 1 procedure | 160 hours | 160
Subsequent Years | 559 railroads | 1 amendment | 40 hours | 40
Amendments | 559 railroads | 1 petition | 67 hours | 67
Design Descriptions—Petitions | 559 railroads | 1 report | 13 hours | 13
Results Pre-Revenue Service Acceptance Testing | 559 railroads | 5 descriptions | 40 hours | 200
Description of Brake Systems Technologies Previously Used in Revenue Service
232.603:
ECP Requirements Brakes—Configuration Management Plans | 4 railroads | 1 plan | 160 hours | 160
Updated Plans in Subsequent Years | 4 railroads | 1 plan | 160 hours | 160
Modification of Standards—Requests | 4 railroads | 1 request + 4 copies | 8 hours + 5 minutes | 8
RR Statement Affirming Copy of Modification Request to Employee Reps. | 4 railroads | 4 statements + 24 copies | 60 minutes + 5 minutes | 6
Comments on Modification Request | Public/Interested Parties | 4 comments | 2 hours | 8
232.605:
ECP Training Programs | 4 railroads | 4 programs | 100 hours | 400
Programs in Subsequent Years | 4 railroads | 2 programs | 100 hours | 200
ECP Trained Employees | 4 railroads | 6,409 empl. | 8 hrs./24 hrs. | 10,512
ECP Trained Employees—Subsequent Yr | 4 railroads | 6,409 empl. | 1 hr./8 hrs. | 30,264
ECP Trained Employees—Records | 4 railroads | 6,409 records | 4 minutes | 855
ECP Trained Employees—Sub. Records | 4 railroads | 6,409 records | 4 minutes | 428
RR/Contractor Assessment of ECP Training Programs—Amended Plans | 4 railroads | 4 amended plans | 40 hours | 160
232.607:
ECP Trains Inspection/Testing | 4 railroads | 10,000 tests + 10,000 notices | 90 minutes + 45 seconds | 15,125
Notification to Locomotive Engineer:
Cars Added en Route—Tests/Notifications | 4 railroads | 1,000 tests + 1,000 notices | 60 minutes + 45 seconds | 1,006
Non-ECP Cars Added—Inspections and Tagging of Defective Equipment | 2000 Cars | 200 insp. + 400 tags | 5 minutes + 2.5 minutes | 34
232.609:
Handling of Defective Equipment w/ECP Brake Systems—Tagging | 25 Cars | 50 tags | 2.5 minutes | 2
Train in ECP Mode w/Less Than 85% of Cars w/Operative Brakes—Insp. + Tagging | 20 Cars | 20 insp. + 40 tags | 5 minutes + 2.5 minutes | 3
Freight Cars w/ECP Systems Found with Defective Non-Safety Appliance—Tagging | 75 Cars | 150 tags | 2.5 minutes | 6
Conventional Train Operating with ECP Stand Alone Brake Systems—Tagging | 500 Cars | 1,000 tags | 2.5 minutes | 42
Procedures for Handling ECP Brake System Repairs | 4 railroads | 4 procedures | 24 hours | 96
Submission to FRA of ECP Brake System Repair Locations—Lists | 4 railroads | 4 lists | 8 hours | 32
Notice to FRA of Change in List | 4 railroads | 1 notification | 60 minutes | 1
232.611:
Periodic Maintenance Inspection and Repair of ECP Cars Before Release from Repair Shop or Track | 500 freight Cars | 500 inspection and records | 10 minutes | 83
Petitions for Special Approval of Pre-Revenue Service Acceptance Testing Plan | AAR | 1 petition + 2 copies | 24 hours + 5 minutes | 24
Single Car Brake Test on ECP Retrofitted Cars | 2,500 freight Cars | 2,500 tests/Records | 45 minutes | 1,875
Modification of Single Car Test Standard | AAR | 1 procedure | 40 hours | 40

Total Responses: 8,677,078.

Total Estimated Total Annual Burden: 990,276 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on August 5, 2011 .
Kimberly Coronel,
Director, Office of Financial Management, Federal Railroad Administration.

[FR Doc. 2011-20464 Filed 8-11-11; 8:45 am]

BILLING CODE 4910-06-P